DEPARTMENT OF EDUCATION

Office of Elementary and Secondary Education; Overview Information; High School Graduation Initiative; Notice Inviting Applications for New Awards for Fiscal Year (FY) 2010

Catalog of Federal Domestic Assistance (CFDA) Number: 84.360.

Dates:

Applications Available: June 18, 2010.

Deadline for Notice of Intent to Apply: July 7, 2010.

Deadline for Transmittal of Applications: July 28, 2010.

Full Text of Announcement

I. Funding Opportunity Description

Purpose of Program: The High School Graduation Initiative (formerly known as the School Dropout Prevention (SDP) program) awards grants to local educational agencies (LEAs) and State educational agencies (SEAs) to support the implementation of effective, sustainable, and coordinated dropout prevention and reentry programs in schools that serve students in grades 6 through 12 and that have event dropout rates that are above the State average event dropout rate or are middle schools that feed students into such schools.¹

¹ According to the National Center for Education Statistics (NCES), in the 2007-08 school year, the most recent school year for which data are available, the national event dropout rate for public high schools in the 49 reporting States and the District of Columbia was 4.1 percent. The rate ranged from 1.7 percent in Indiana and New Jersey to 7.5 percent in Louisiana. Twenty-six States had event dropout rates for public high schools of 4 percent or less; four States had event dropout rates for public high schools of 6 percent or more (Stillwell, R. (2010). Public School Graduates and Dropouts From the Common Core of Data: School Year 2007-08 (NCES 2010-341)).

Priorities: This notice includes two priorities. In accordance with 34 CFR 75.105(b)(2)(v), Priority 1 is from the allowable activities specified in the statute (see section 1825(1) of the Elementary and Secondary Education Act of 1965, as amended (ESEA) (20 U.S.C. 6561d(1))). Priority 2 is from the notice of final priorities, requirements, definitions, and selection criteria for the SDP program, published in the Federal Register on July 8, 2005 (70 FR 39499) (2005 SDP program NFP).

Absolute Priorities: For FY 2010 and any subsequent year in which we make awards from the list of unfunded applicants from this competition, these priorities are absolute priorities. Under 34 CFR 75.105(c)(3) we consider only applications that meet these priorities.

These priorities are:

Absolute Priority 1: Effective Early Identification, Prevention, and Intervention Programs.

This priority supports projects that propose to establish, enhance, or expand effective early intervention programs designed to identify at-risk students and prevent such students from dropping out of school and effective programs to identify and encourage youth who have already dropped out of school to reenter school and complete their secondary education (20 U.S.C. 6561d(1)).

Absolute Priority 2: Collaboration with Other Agencies

Under this priority, an applicant must include in its application evidence that other public or private entities will be involved in, or provide financial support for, the implementation of the activities described in the application. Applicants may involve such State agencies as those responsible for administering postsecondary education, Title I of the Workforce Investment Act, Temporary Assistance for Needy Families, Medicaid, the State Children's Health Insurance Program, foster care, juvenile justice, and others. Applicants also may collaborate with business and industry, civic organizations, foundations, and community- and faith-based organizations, among other private-sector entities.

Acceptable evidence of collaboration is a memorandum of understanding or other document signed by the principal officer of each participating agency that identifies (1) how the agency will be involved in the implementation of the project or (2) the financial resources (cash or in-kind) that it will contribute to support the project, or both.

Definitions. In addition to the definitions in the authorizing statute and 34 CFR 77.1, the following definitions also apply to this program. These definitions are from the 2005 SDP program NFP.

High school dropout means an individual who—

(a) Was enrolled in a district in grades nine through 12 at some time during the preceding school year;

(b) Was not enrolled at the beginning of the current school year;

(c) Has not graduated or completed a program of studies by the maximum age established by a State;

(d) Has not transferred to another public school district, a nonpublic school, or a State-approved educational program; and

(e) Has not left school because of death, illness, or a school-approved absence.

State event dropout rate means the dropout rate calculated by dividing the number of high school dropouts (as defined elsewhere in this notice) in the State by the total number of students enrolled in grades 9 through 12 in public schools in the State during the current school year. This calculation is based upon the annual school event dropout rate calculation of the National Center for Education Statistics' Common Core of Data.

School event dropout rate means the dropout rate calculated by dividing the number of high school dropouts (as defined elsewhere in this notice) in a school by the total number of students enrolled in grades 9 through 12 in that school during the current school year.

Program Authority: 20 U.S.C. 6551 et seq. and the 2010 Consolidated Appropriations Act, Public Law 111-117.

Applicable Regulations: (a) The Education Department General Administrative Regulations (EDGAR) in 34 CFR parts 75, 77, 79, 80, 81, 82, 84, 85, 97, 98, and 99. (b) The notice of final priorities, requirements, definitions, and selection criteria for the SDP program, published in the Federal Register on July 8, 2005 (70 FR 39499).

II. Award Information

Type of Award: Discretionary grants.

Estimated Available Funds: $45,000,000.

Contingent upon the availability of funds and the quality of applications, we may make additional awards in FY 2011 from the list of unfunded applicants from this competition.

Estimated Range of Awards: $350,000-$3,000,000.

Estimated Average Size of Awards: $900,000.

Maximum Award: We will reject any application that proposes a budget exceeding $3,000,000 for a single budget period of 12 months. The Assistant Secretary for Elementary and Secondary Education may change the maximum amount through a notice published in the Federal Register.

Estimated Number of Awards: 50.

Note: The Department is not bound by any estimates in this notice.

Project Period: Up to 60 months.

III. Eligibility Information

1. Eligible Applicants:

(a) SEAs to support activities in—

(i) schools that—

(A) serve students in grades 6 through 12; and

(B) have annual school dropout rates that are above the State average annual school dropout rate; or

(ii) middle schools that feed students into schools that serve students in grades 6 through 12 and have annual school dropout rates that are above the State average annual school dropout rate.

(b) LEAS that operate—

(i) schools that—

(A) serve students in grades 6 through 12; and

(B) have annual school dropout rates that are above the State average annual school dropout rate; or

(ii) middle schools that feed students into schools serve students in grades 6 through 12 and that have annual school dropout rates that are above the State average annual school dropout rate.

Note: Applicants must identify the specific schools that will receive project services and provide evidence that, using the most recent available data, those schools serve students in grades 6 through 12, and have annual school dropout rates that are above the State average annual school dropout rate or are middle schools that feed students into schools that serve students in grades 6 through 12 and that have annual school dropout rates that are above the State average annual school dropout rate.

2. a. Cost Sharing or Matching: This program does not require cost sharing or matching.

b. Supplement-Not-Supplant: This program involves supplement-not-supplant funding requirements (See section 1823(b)(1)(F) of the ESEA (20 U.S.C. 6561b(b)(1)(F)). This restriction also has the effect of allowing projects to recover indirect costs only on the basis of a restricted indirect cost rate, according to the requirements in 34 CFR 75.563 and 34 CFR 76.564 through 76.569.

IV. Application and Submission Information

1. Address to Request Application Package: Theda Zawaiza, U.S. Department of Education, 400 Maryland Avenue, SW., room 3E122, Washington, DC 20202. Telephone: (202) 205-3783 or by e-mail: hsgi@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this program.

Notice of Intent to Apply: July 7, 2010.

We will be able to develop a more efficient process for reviewing grant applications if we have a better understanding of the number of entities that intend to apply for funding. Therefore, we strongly encourage each potential applicant to send a notification of its intent to apply for funding to hsgi@ed.gov by July 7, 2010. The notification of intent to apply for funding is optional. Applicants that do not supply this e-mail notification may still apply for funding.

Page Limit: The application narrative is where you, the applicant, address the selection criteria that reviewers use to evaluate your application. You must limit the application narrative to no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to the cover sheet; the budget section, including the narrative budget justification; the assurances and certifications; or the one-page abstract, the resumes, the bibliography, or the letters of support. However, the page limit does apply to all of the application narrative section. We further encourage applicants to limit resumes to no more than three pages and all other attachments or appendices to no more than 20 pages.

Our reviewers will not read any pages of your application narrative that exceed the page limit.

3. Submission Dates and Times:

Applications Available: June 18, 2010.

Notice of Intent to Apply: July 7, 2010.

Deadline for Transmittal of Applications: July 28, 2010.

Applications for grants under this program must be submitted electronically using the Electronic Grant Application System (e-Application) accessible through the Department's e-Grants site. For information (including dates and times) about how to submit your application electronically, or in paper format by mail or hand delivery if you qualify for an exception to the electronic submission requirement, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and Central Contractor Registry: To do business with the Department of Education, (1) you must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this program must be submitted electronically unless you qualify for an exception to this requirement in accordance with the instructions in this section.

a. Electronic Submission of Applications.

Applications for grants under the High School Graduation Initiative—CFDA Number 84.360 must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Theda Zawaiza, U.S. Department of Education, 400 Maryland Avenue, SW., room E3122, Washington, DC 20202. Fax: (202) 205-4921.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.360), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address:

U.S. Department of Education, Application Control Center, Attention: (CFDA Number 84.360), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The following selection criteria will be used to evaluate applications for new grants under this program. The selection criteria for this competition are from 34 CFR 75.210, and, where otherwise noted, the 2005 SDP program NFP, and sections 1823 and 1825 of the ESEA.

Note: The maximum score for a grant application under this program is 100 points. The maximum points assigned to each criterion and sub-criterion are indicated in parentheses.

(a) Need for the Project. In determining the need for the proposed project, we will consider the extent to which the proposed project will target secondary schools serving students in grades 6 through 12 that have the highest annual school dropout rates or the middle schools that feed students into those secondary schools (20 U.S.C 6561b(b)(1)(A)(ii)) (10 points).

(b) Quality of Project Services.

(1) In determining the quality of the services to be provided by the proposed project, we will consider the quality and sufficiency of strategies for ensuring equal access and treatment for eligible project participants who are members of groups that have traditionally been underrepresented based on race, color, national origin, gender, age, or disability (5 points).

(2) In addition, we will consider the following:

(A) The likely effectiveness, based on research, data, and the needs of the target population, to implement the proposed project, of—

(i) The early intervention programs that the proposed project will implement to identify at-risk students, based on data (20 U.S.C. 6561d(1)(A)); and

(ii) The dropout prevention programs that the proposed project will carry out (20 U.S.C. 6561a(a)(1)(B)) (15 points);

(B) The extent to which the proposed project is likely to be effective, based on research, data, and the needs of the target population, in identifying and assisting youth who have already dropped out of school to reenter school and complete their secondary education (20 U.S.C. 6561d(1)(C)) (25 points);

(C) The extent to which the services to be provided by the proposed project are appropriate to the needs of the intended recipients or beneficiaries of those services (5 points);

(D) The extent to which the activities to be assisted conform with research knowledge about school dropout prevention and reentry (20 U.S.C. 6561b(b)(1)(G)) (10 points); and

(E) The extent to which the services to be provided by the proposed project involve the collaboration and commitment of appropriate partners for maximizing the effectiveness of project services (7 points).

c. Quality of the Management Plan. In determining the quality of the management plan for the proposed project, we will consider the following:

(1) The adequacy of the management plan to achieve the objectives of the proposed project on time and within budget, including the extent to which the plan clearly defines the roles and responsibilities of each agency and its key personnel and establishes detailed timelines and milestones for accomplishing each of the project tasks (2005 SDP program NFP) (15 points); and

(2) The extent to which the time commitments of the project director and principal investigator and other key project personnel are appropriate and adequate to meet the objectives of the proposed project (3 points).

d. Quality of Assessment of Project Effectiveness. In determining the quality of the applicant's plan to assess the project's effectiveness, we consider the extent to which the methods proposed by the applicant are sufficiently rigorous to determine the effectiveness of the project (20 U.S.C. 6561b(b)(1)(A)(iii)) (5 points).

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Projects funded under this competition are encouraged to budget for a two-day meeting for project directors to be held annually in Washington, DC.

4. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

5. Performance Measures: The Department has established the following Government Performance and Results Act of 1993 (GPRA) performance measures for this program:

(1) For each high school served by the project, the school's graduation rate, as defined in the State's approved accountability plan for Part A of Title I of the ESEA, as well as the graduation rates for the following subgroups:

(A) Major racial and ethnic groups;

(B) Students with disabilities;

(C) Students with limited English proficiency; and

(D) Economically disadvantaged students.

Note: The Department will identify each school's graduation rate, as well as the graduation rates for the subgroups identified in this section, using the data that are now reported to the Department by SEAs using the EDEN Submission System (ESS). Grantees will not be required to provide these data.

(2) The number and percentage of students enrolled in grades 9 through 12 in schools or programs served by the project who, during the most recent school year, earned one quarter of the credits necessary to graduate from high school with a regular diploma.

(3)(A) The number and percentage of students served by the project who had not attended school for 60 or more instructional days immediately prior to their participation in the project; and

(B) The average daily attendance of such students while participating in the project.

(4)(A) The number and percentage of students served by the project during the most recent school year who were two or more years behind their expected age and credit accumulation in high school; and

(B) The number and percentage of such students who earned one half or more of the credits they need to graduate with a regular diploma.

(5) For each school served by the project that includes an eighth grade—

(A) The average daily attendance of such school; and

(B) The number and percentage of students enrolled in the eighth grade who enrolled in ninth grade at the start of the next school year.

These measures constitute the Department's indicators of success for this program. Consequently, we advise an applicant for a grant under this program to give careful consideration to these measures in conceptualizing the approach and evaluation for its proposed project. Each grantee will be required to provide, in its annual performance and final reports, data about its progress in meeting these measures.

VII. Agency Contacts

For Further Information Contact: Theda Zawaiza, U.S. Department of Education, 400 Maryland Avenue, SW., room 3E122, Washington, DC 20202. Telephone: (202) 205-3783 or by e-mail: hsgi@ed.gov.

If you use a TDD, call the FRS, toll free, at 1-800-877-8339.

VIII. Other Information

Accessible Format: Individuals with disabilities can obtain this document and a copy of the application package in an accessible format (e.g., braille, large print, audiotape, or computer diskette) on request to either program contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: June 15, 2010.
Thelma Meléndez de Santa Ana,
Assistant Secretary for Elementary and Secondary Education.

[FR Doc. 2010-14732 Filed 6-17-10; 8:45 am]

BILLING CODE 4000-01-P